SECURITIES AND EXCHANGE COMMISSION

Sunshine Act Meeting

Citation of Previous Announcement: [To be Published]

Status: Closed Meeting.

Place: 100 F Street, NE., Washington, DC.

Date and Time of Previously Announced Meeting: Thursday, January 15, 2009 at 2 p.m.

Change in the Meeting: Time Change.

The Closed Meeting scheduled for Thursday, January 15, 2009 at 2 p.m. has been changed to Thursday, January 15, 2009 at 1 p.m.

At times, changes in Commission priorities require alterations in the scheduling of meeting items. For further information and to ascertain what, if any, matters have been added, deleted or postponed, please contact the Office of the Secretary at (202) 551-5400.

Dated: January 12, 2009.
Elizabeth M. Murphy,
Secretary.

[FR Doc. E9-867 Filed 1-14-09; 8:45 am]

BILLING CODE 8011-01-P